DEPARTMENT OF JUSTICE

Office of Justice Programs

[OJP (BJA) Docket No. 1520]

Meeting of the Department of Justice's (DOJ's) National Motor Vehicle Title Information System (NMVTIS) Federal Advisory Committee

AGENCY: Office of Justice Programs (OJP), Justice.

ACTION: Notice of meeting.

SUMMARY: This is an announcement of a meeting of DOJ's National Motor Vehicle Title Information System (NMVTIS) Federal Advisory Committee to discuss the role of the NMVTIS Federal Advisory Committee Members and various issues relating to the operation and implementation of NMVTIS.

DATES: The meeting will take place on Tuesday, June 22, 2010 from 8:30 a.m. to 4:30 p.m. ET and on Wednesday, June 23, 2010 from 8:30 a.m. to 12 p.m. ET.

ADDRESSES: The meeting will take place at the Bureau of Justice Assistance, Office of Justice Programs, 810 7th Street, NW., Washington, DC 20531; Phone: (202) 305-1661.

FOR FURTHER INFORMATION CONTACT: Alissa Huntoon, Designated Federal Employee (DFE), Bureau of Justice Assistance, Office of Justice Programs, 810 7th Street, NW., Washington, DC 20531; Phone: (202) 305-1661 [Note: This is not a toll-free number]; E-mail: Alissa.Huntoon@usdoj.gov.

SUPPLEMENTARY INFORMATION: This meeting is open to the public. Due to security measures, however, members of the public who wish to attend this meeting must register with Ms. Alissa Huntoon at the above address at least seven (7) days in advance of the meeting. Registrations will be accepted on a space available basis. Access to the meeting will not be allowed without registration. All attendees will be required to sign in at the security desk. Please bring photo identification and allow extra time prior to the meeting. Interested persons whose registrations have been accepted may be permitted to participate in the discussions at the discretion of the meeting chairman and with approval of the DFE.

Anyone requiring special accommodations should notify Ms. Huntoon at least seven (7) days in advance of the meeting.

Purpose

The NMVTIS Federal Advisory Committee will provide input and recommendations to the Office of Justice Programs (OJP) regarding the operations and administration of NMVTIS. The primary duties of the NMVTIS Federal Advisory Committee will be to advise the Bureau of Justice Assistance (BJA) Director on NMVTIS-related issues, including but not limited to: Implementation of a system that is self-sustainable with user fees; options for alternative revenue-generating opportunities; determining ways to enhance the technological capabilities of the system to increase its flexibility; and options for reducing the economic burden on current and future reporting entities and users of the system.

Alissa Huntoon,
Bureau of Justice Assistance. Office of Justice Programs.

[FR Doc. 2010-13456 Filed 6-3-10; 8:45 am]

BILLING CODE 4410-18-P